DEPARTMENT OF COMMERCE

Census Bureau

Agency Information Collection Activities; Submission to the Office of Management and Budget (OMB) for Review and Approval; Comment Request; Vehicle Inventory and Use Survey

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on March 15, 2021 during a 60-day comment period. This notice allows for an additional 30 days for public comments.

Agency: U.S. Census Bureau, Commerce.

Title: Vehicle Inventory and Use Survey.

OMB Control Number: 0607-0892.

Form Number(s): TC-9501, TC-9502.

Type of Request: Regular submission, Request for a Reinstatement, with change of a previously approved collection.

Number of Respondents: 150,000.

Average Hours per Response: 65 minutes.

Burden Hours: 162,500.

Needs and Uses: The Census Bureau requests clearance of the forms that will be used to conduct the 2021 Vehicle Inventory and Use Survey (VIUS). Our sponsor for this joint statistical project is the Bureau of Transportation Statistics. The 2021 VIUS will collect data to measure the physical and operational characteristics of trucks from a sample of approximately 150,000 trucks. These trucks are selected from more than 190 million private and commercial trucks registered with motor vehicle departments in the 50 states and the District of Columbia. The Census Bureau will collect the data for the sampled trucks from the registered truck owners. We will publish physical and operational vehicle characteristics estimates for each state, the District of Columbia, and the United States. A public-use file will be released that will contain unaggregated microdata information for each truck for which data are collected. The records on the public-use file will be masked to avoid the disclosure of a sampled truck or owner.

The VIUS is the only comprehensive source of information on the physical and operational characteristics of the Nation's truck population. The VIUS provides unique, essential information for government, business, and academia. The U.S. Department of Transportation, State Departments of Transportation, and transportation consultants compliment VIUS microdata as extremely useful and flexible to meet constantly changing requests that cannot be met with predetermined tabular publications. The planned microdata file will enable them to cross-tabulate data to meet their needs.

Federal, state, and local transportation agencies use information from the VIUS for the analysis of safety issues, proposed investments in new roads and technology, truck size and weight issues, user fees, cost allocation, energy and environmental constraints, hazardous materials transport, and other aspects of the Federal-aid highway program. The Federal government uses information from the VIUS as an important part of the framework for: (1) The national investment and personal consumption expenditures component of the gross domestic product, (2) input-output tables, (3) economic development evaluation, (4) maintenance of vital statistics for prediction of future economic and transportation trends, (5) logistical requirements, (6) Metropolitan Planning Organization transportation development requirements, and (7) regulatory impact analysis.

Business and academia use information from the VIUS to assess intermodal use, conduct market studies and evaluate market strategies, assess the utility and cost of certain types of equipment, and calculate the longevity of products. VIUS information also is used to determine fuel demands and needs for fuel efficiency, to produce trade publication articles and special data arrays, and to assess the effects of deregulation on the restructuring of the transportation industries.

Affected Public: Individuals or households; Business or other for-profit organizations.

Frequency: One time.

Respondent's Obligation: Mandatory.

Legal Authority: Title 13 U.S.C., section 131 and 182.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0892.

Sheleen Dumas,
Department PRA Clearance Officer, Office of the Chief Information Officer, Commerce Department.

[FR Doc. 2021-18232 Filed 8-24-21; 8:45 am]

BILLING CODE 3510-07-P